DEPARTMENT OF EDUCATION

National Institute on Disability and Rehabilitation Research (NIDRR)—Disability and Rehabilitation Research Projects and Centers Program—Disability Rehabilitation Research Project (DRRP)—International Exchange of Knowledge and Experts in Disability and Rehabilitation Research

Catalog of Federal Domestic Assistance (CFDA) Number: 84.133A-6.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for a DRRP entitled International Exchange of Knowledge and Experts in Disability and Rehabilitation Research. The Assistant Secretary may use this priority for a competition in fiscal year (FY) 2010 and later years. We take this action to focus research attention on areas of national need. We intend this priority to improve rehabilitation services and outcomes for individuals with disabilities.

DATES: Effective Date: This priority is effective August 9, 2010.

FOR FURTHER INFORMATION CONTACT: Marlene Spencer, U.S. Department of Education, 400 Maryland Avenue, SW., room 5133, Potomac Center Plaza (PCP), Washington, DC 20202-2700. Telephone: (202) 245-7532 or by e-mail: marlene.spencer@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Program Authority: 29 U.S.C. 762(g) and 764(b)(6).

Applicable Program Regulations: 34 CFR part 350.

We published a notice of proposed priority (NPP) for NIDRR's Disability and Rehabilitation Research Projects and Centers Program in the Federal Register on May 14, 2010 (75 FR 27324). The NPP included a background statement that described our rationale for the priority proposed in that notice.

There is one significant difference between the NPP and this notice of final priority (NFP) as discussed in the following section.

Public Comment:In response to our invitation in the NPP, three parties submitted comments on the proposed priority. An analysis of the comments and of any changes in the priority since publication of the NPP follows.

Generally, we do not address technical and other minor changes or suggested changes the law does not authorize us to make under the applicable statutory authority. In addition, we do not address general comments that raised concerns not directly related to the proposed priority.

Analysis of Comments and Changes:

Comment: One commenter suggested that NIDRR consider how the activities to be carried out under this priority will be sustained over time.

Discussion: NIDRR agrees that the sustainability of activities carried out under this priority is an important goal. Paragraph (b) of the priority requires that the Center identify or develop, and then evaluate and implement, sustainable methods for carrying out the overall mission of this center; namely, domestic dissemination of research findings produced by disability and rehabilitation personnel from other countries. NIDRR does not wish to specify the methods an applicant must use in order to ensure that dissemination activities are sustainable. We believe the choice of methods to sustain the dissemination of research findings is best left to the applicant.

Changes: None.

Comment: One commenter expressed appreciation for the Center for International Rehabilitation Research Exchange (CIRRIE) database described in paragraph (a) of the priority. However, this commenter noted that, as more research is exchanged globally, it may be difficult to determine if a study from another country is applicable to one's own country. This commenter suggested that the Center produce “country profiles” to help those who are trying to interpret studies but lack knowledge of the health care practices and culture in which the study was produced.

Discussion: Applicants are free to propose the development of “country profiles” to support the success of required activities under this priority. However, NIDRR does not have a sufficient basis for requiring all applicants to include this approach.

Changes: None.

Comment: One commenter suggested that the requirement to propose and justify one substantive area of focus for activities under paragraph (b) of the priority is too restrictive for a number of reasons. This commenter noted that the restriction to one substantive area under paragraph (b) contradicts the broader requirements of the opening paragraph of the priority, which states that the Center must promote the following outcomes for individuals with disabilities: improved education, employment, health, and community living. In addition, this commenter noted that there is no basis in NIDRR's Long-Range Plan for limiting this priority's focus to one substantive area. This commenter also stated that substantive outcome areas are intertwined in the rehabilitation research and development literature and in the lives of individuals with disabilities. Therefore, this commenter recommended that the restrictive language requiring applicants to specialize in a specific substantive area be removed and that applicants be allowed to propose approaches that would be as specific or comprehensive as they deem appropriate.

Discussion: NIDRR agrees that substantive outcome areas such as education, employment, health, and community living are intertwined in the disability and rehabilitation research literature and in the lives of individuals with disabilities. NIDRR proposed the requirement that applicants specify one subject area recognizing that the Center might not have sufficient resources to support research in many different areas. After further review, however, we are removing this requirement because we believe it is too prescriptive and that it would be best to allow applicants to specify how they will define the body of research to be studied. We are therefore, revising the priority to provide that each applicant must describe and justify the inclusion and exclusion criteria it will use to define a body of research literature that can be evaluated and disseminated within the resource constraints of this Center.

Changes: NIDRR has revised paragraph (b) of the priority to state that applicants must describe the criteria and methods that they will use to define the body of research literature that they will evaluate and disseminate to U.S. stakeholders.

Comment: One commenter suggested that the requirement in paragraph (b) of the priority to propose and justify the countries or global regions to be targeted is overly restrictive. This commenter noted that disseminating knowledge from only a subset of countries or regions would deprive the disability and rehabilitation community in the U.S. of knowledge from many other sources outside the chosen geographic focus.

Discussion: Nothing in this priority precludes applicants from proposing to target all countries or global regions as sources of disability and rehabilitation research and development. The peer review process will evaluate the merits of each proposal.

Changes: None.

Final Priority:

The Assistant Secretary for Special Education and Rehabilitative Services announces a priority for a Disability and Rehabilitation Research Project (DRRP) to serve as a Center for International Exchange of Knowledge and Experts in Disability and Rehabilitation Research (Center). This Center must promote improved education, employment, health, and community living outcomes for individuals with disabilities by developing and implementing methods for the international exchange of knowledge generated by disability and rehabilitation research and development (R&D). Under this priority, the Center must contribute to the following outcomes:

(a) A well-maintained, publicly accessible, and searchable database containing citations of publications from disability and rehabilitation R&D that was conducted in other countries. The Center must contribute to this outcome by assuming the operation of an existing database presently operated by the Center for International Rehabilitation Research Exchange (CIRRIE). The Center must establish sound strategies and approaches to ensure that the database is comprehensive, easy to use, and up-to-date at all times.

(b) Improved methods for the identification and domestic dissemination of findings from R&D generated by disability and rehabilitation R&D personnel in other countries. The Center must contribute to this outcome by developing or identifying, evaluating, and applying methods for the identification of research findings to be disseminated in the U.S. The application of these methods must lead to information on the methodological rigor with which the R&D was conducted, as well as the relevance of findings to U.S. stakeholders (e.g., researchers, rehabilitation service providers, educators, clinicians, and individuals with disabilities and their families). The Center also must identify or develop, and then evaluate and implement, sustainable methods for domestic dissemination of relevant findings produced by disability and rehabilitation R&D personnel from other countries. Given the breadth of disability and rehabilitation R&D conducted in countries outside of the U.S. and the limited resources of this Center, applicants must propose and justify the criteria or methods they will use to define the body of research that they will evaluate. Applicants must also propose and justify the countries or global regions they will target as the sources of disability and rehabilitation R&D.

(c) Improved cross-cultural and cross-national awareness and expertise among personnel from NIDRR-funded grants. The Center must contribute to this outcome by administering an international exchange of R&D personnel from NIDRR-funded projects and disability and rehabilitation R&D personnel from other countries. The Center must establish criteria for reviewing and selecting personnel to participate in the exchange. These criteria must emphasize the extent to which proposed exchanges will promote cross-cultural and cross-national awareness and expertise among NIDRR grantees and contribute to the quality and relevance of disability and rehabilitation research conducted in the U.S.

Types of Priorities:When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this final regulatory action are those resulting from statutory requirements and those we have determined as necessary for administering this program effectively and efficiently.

In assessing the potential costs and benefits—both quantitative and qualitative—of this final regulatory action, we have determined that the benefits of the final priority justify the costs.

Discussion of costs and benefits: The benefits of the Disability and Rehabilitation Research Projects and Centers Programs have been well established over the years in that similar projects have been completed successfully. This priority will generate new knowledge through research and development. Another benefit of this priority is that the establishment of a new DRRP will improve the lives of individuals with disabilities. The new DRRP will generate, disseminate, and promote the use of new information that will improve the options for individuals with disabilities to perform regular activities in the community.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 2, 2010.
Alexa Posny,
Assistant Secretary for Special Education and Rehabilitative Services.

[FR Doc. 2010-16689 Filed 7-7-10; 8:45 am]

BILLING CODE 4000-01-P